DEPARTMENT OF ENERGY

Federal Energy Regulatory Commission

[Project No. 2144-038]

City of Seattle; Notice of Application Tendered for Filing With the Commission and Establishing Procedural Schedule for Licensing and Deadline for Submission of Final Amendments

October 8, 2009.

Take notice that the following hydroelectric application has been filed with the Commission and is available for public inspection.

a. Type of Application: New Major License.

b. Project No.: 2144-038.

c. Date Filed: September 29, 2009.

d. Applicant: City of Seattle.

e. Name of Project: Boundary Hydroelectric Project.

f. Location: The existing project is located on the Pend Oreille River in Pend Oreille County, Washington. The project currently occupies 920.87 acres of Federal land managed by the U.S. Forest Service and U.S. Bureau of Land Management.

g. Filed Pursuant to: Federal Power Act 16 U.S.C. 791(a)-825(r).

h. Agent Contact: Jorge Carrasco, Superintendent, Seattle City Light, 700 Fifth Avenue, Suite 3200, Seattle, WA 98124-4023; (206) 615-1091.

i. FERC Contact: David Turner (202) 502-6091.

j. This application is not ready for environmental analysis at this time.

k. Project Description: The existing project consists of: (1) A concrete arch dam with a crest elevation of 2,004 feet NGVD (North American Vertical Datum), a structural height of 340 feet, a thickness ranging from 8 feet at the crest to 32 feet at the base, and a crest length of 508 feet, with a total length, including the spillways, of 740 feet; (2) two 50-feet-wide spillways fitted with 45-feet-high radial gates, one on each abutment, which have a combined maximum capacity of 108,000 cubic feet per second (cfs) at a forebay water surface elevation of 1994 feet NGVD; (3) seven 21-foot-high by 17-foot-wide, low-level vertical fixed-wheel sluice gates that provide an additional discharge capacity of 252,000 cfs, for a total discharge capacity at the dam of 360,000 cfs; (4) a 17.5-mile-long, 1,794-acre reservoir at a normal full pool elevation of 1,994 feet NGVD with 87,913 acre-feet of gross storage; (5) power intake facilities excavated on the left abutment area consisting of an approximately 300-foot-wide by 800-foot-long forebay, a trash rack structure across the entrance to the forebay, and the portal face with six 30-foot-wide by 34-foot-high horseshoe-shaped tunnels extending to intake gate chambers; (6) six 315-feet-long penstocks lead from each of the intake gates to one of the six turbine-generator units in the power plant; (7) an underground power plant comprised of a 76-feet wide by 172-feet-high by 477-feet-long machine hall; (8) two 204,506-horsepower (hp) Francis turbines, with 158.4-megawatt (MW) generators, two 204,506-hp Francis turbines, with 161.5-MW generators, and two 259,823-hp Francis turbines, with 200-MW generators for a total authorized generating capacity of 1,003 MW; (9) six draft tubes that discharge water into the tailrace immediately below the dam; (10) six horseshoe-shaped transformer bays; (11) six individual three-phase, 230-kilovolt (kV) transmission lines up the vertical face of the left abutment of the dam to six pairs of transmission towers on top of the abutment; and (12) appurtenant equipment. The applicant proposes to install new high efficiency turbines in Units 55 and 56, concurrently with planned generator rewinds and step-up transformer replacements, to increase the project's total installed capacity to 1,033 MW.

l. Locations of the Application: A copy of the application is available for review at the Commission in the Public Reference Room or may be viewed on the Commission's website at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule: On September 30, 2009, Seattle City Light filed an agreement-in-principle and a request to suspend processing of the license application until February 1, 2010 to complete settlement negotiations. The negotiations also involve measures linking the Boundary relicense with the surrender of Pend Oreille County Public Utility District's Sullivan Creek Project No. 2225. In the interest of furthering settlement negotiations and resolution of both proceedings, we are agreeing to delay the issuance of our ready for environmental analysis notice. Therefore, the application will be processed according to the following Hydro Licensing Schedule. Revisions to the schedule may be made as appropriate and a more detailed schedule will be issued with the ready for environmental analysis notice.

Milestone | Target date
Notice of Acceptance and Ready for Environmental Analysis | March 2010.
Filing interventions, comments, recommendations, preliminary terms and conditions, and fishway prescriptions | May 2010.
Notice of availability of the Draft EA | October 2010.
Filing comments on Draft EA | November 2010.
Filing modified terms and conditions | January 2011.
Notice of availability of Final EA | April 2011.

o. Final amendments to the application must be filed with the Commission no later than 30 days from the issuance date of the notice of ready for environmental analysis.

Kimberly D. Bose,
Secretary.

[FR Doc. E9-24911 Filed 10-15-09; 8:45 am]

BILLING CODE 6717-01-P